DEPARTMENT OF COMMERCE

National Oceanic and Atmospheric Administration

Agency Information Collection Activities; Submission to the Office of Management and Budget (OMB) for Review and Approval; Comment Request; Generic Clearance for NOAA Social, Behavioral, and Economic Science Studies for Weather, Water, and Climate

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 29, 2024.

ADDRESSES: Interested persons are invited to submit written comments to Adrienne Thomas, NOAA PRA Officer, at NOAA.PRA@noaa.gov. Please reference OMB Control Number 0648-xxxx in the subject line of your comments. Do not submit Confidential Business Information or otherwise sensitive or protected information.

FOR FURTHER INFORMATION CONTACT: Requests for additional information or specific questions related to collection activities should be directed to Dr. Danielle Nagele, Senior Social Science Advisor, DOC/NOAA/NWS/AFS, 1325 East-West Highway, Silver Spring, MD 20910, 301-427-6919, danielle.nagele@noaa.gov.

SUPPLEMENTARY INFORMATION:

I. Abstract

This is a request for a new generic information collection. The generic clearance is an important planning and engagement tool for NOAA/NWS. The National Oceanic and Atmospheric Administration's (NOAA) products and services support economic vitality and can affect America's gross domestic product. The National Weather Service (NWS) is a critical component of this service and operates under the mission to “provide weather, water and climate data, forecasts, warnings, and impact-based decision support services for the protection of life and property and enhancement of the national economy.” Leveraging and integrating Social, Behavioral, and Economic Sciences (SBES) methodologies and knowledge is crucial to meeting this mission.

In order to effectively support public and partner decision-making, build actionable tools and information, and evaluate performance, it is imperative that the NOAA/NWS collect key SBES data and fully engage with our audiences. Additionally, the NOAA/NWS has articulated a priority to enhance services for historically underinvested and underserved communities and improve service equity across the board. These communities typically experience higher rates of poverty, homelessness, disabilities, and language barriers, which increase their vulnerability to hazard impacts.

II. Method of Collection

The procedures expected to be used include, but are not limited to, social network analysis, open, semi-structured and structured interviews, focus groups, surveys, and ethnographies to include participant observations.

III. Data

OMB Control Number: 0648-NEW.

Form Number(s): None.

Type of Review: New information collection.

Affected Public: Members of the public, emergency managers, broadcast meteorologists, state/local/tribal decision makers, and non-profit organizations.

Estimated Number of Respondents: Approximately 6,000 per year.

Estimated Time per Response: 0.5 hours per person.

Estimated Total Annual Burden Hours: Annualized 3,000 hours overall.

Estimated Total Annual Cost to Public: No cost.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Request (ICR). Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-19577 Filed 8-29-24; 8:45 am]

BILLING CODE 3510-KE-P